DEPARTMENT OF THE INTERIOR

Office of the Secretary

Reopening the Comment Period for the Klamath Facilities Removal Draft Environmental Impact Statement/Environmental Impact Report

AGENCY: Office of Environmental Policy and Compliance, Interior.

ACTION: Notice.

SUMMARY: We, the Department of the Interior, are reopening the comment period on the content for the Klamath Facilities Removal Draft Environmental Impact Statement/Environmental Impact Report (Draft EIS/EIR). We will accept comments until December 30, 2011.

DATES: Submit written comments on the content of the Klamath Facilities Removal Draft EIS/EIR on or before December 30, 2011.

ADDRESSES: Send written comments to Ms. Elizabeth Vasquez, Bureau of Reclamation, 2800 Cottage Way, Sacramento, CA 95825, or by email to KlamathSD@usbr.gov.

FOR FURTHER INFORMATION CONTACT: Ms. Elizabeth Vasquez, Bureau of Reclamation, (916) 978-5040, evasquez@usbr.gov; or Mr. Gordon Leppig, California Department of Fish and Game, (707) 441-2062, KSDcomments@dfg.ca.gov, for technical information. For public involvement information, please contact Mr. Matt Baun, U.S. Fish and Wildlife Service, (530) 841-3119, Matt_Baun@fws.gov. The Draft EIS/EIR may be viewed at http://klamathrestoration.gov/.

SUPPLEMENTARY INFORMATION: The publication and comment history of the Klamath Facilities Removal Draft EIS/EIR is as follows:

• The Department of the Interior issued a notice of availability of the Draft EIS/EIR in the Federal Register on September 22, 2011 (76 FR 58833), with a comment period ending on November 21, 2011.

• The Environmental Protection Agency (EPA) published their notice of availability of the Draft EIS/EIR in the Federal Register on September 30, 2011 (76 FR 60822) with a comment period ending on November 21, 2011.

• The EPA published an amended notice for the Draft EIS/EIR in the Federal Register on October 7, 2011 (76 FR 62406), changing the comment period close date to November 29, 2011.

In recognition of the numerous public notices and requests from the public for more time to review and comment on the Draft EIS/EIR, we have decided to accept comments through December 30, 2011. We will fully consider all comments received between September 22, 2011, and December 30, 2011.

Public Disclosure

Before including your name, address, phone number, email address, or other personal identifying information in your comment, you should be aware that your entire comment—including your personal identifying information—may be made publicly available at any time. While you can ask us in your comment to withhold your personal identifying information from public review, we cannot guarantee that we will be able to do so.

Willie R. Taylor,
Director, Office of Environmental Policy and Compliance.

[FR Doc. 2011-30894 Filed 11-30-11; 8:45 am]

BILLING CODE 4310-MN-P